DEPARTMENT OF HEALTH AND HUMAN SERVICES

National Institutes of Health

Prospective Grant of Exclusive License: Melanoma Antigens and Their Use in Diagnostic and Therapeutic Methods

AGENCY: National Institutes of Health, Public Health Service, DHHS.

ACTION: Notice.

SUMMARY: This is notice, in accordance with 35 U.S.C. 209(c)(1) and 37 CFR 404.7(a)(1)(i), that the National Institutes of Health, Department of Health and Human Services, is contemplating the grant of an exclusive license to practice the inventions embodied in U.S. Patent Applications S/N 08/231,565, filed on April 22, 1994, and now U.S. Patent 5,874,560, which issued on February 23, 1999; S/N 08/417,174, filed on April 5, 1995, and now U.S. Patent 5,844,075; S/N 09/007,961, filed on January 16, 1998, and now U.S. Patent 5,994,523, issued November 30, 1999; S/N 09/073,138, filed on May 5, 1998; and S/N 09/267,439, filed on March 12, 1999, all entitled “Melanoma Antigens and Their Use in Diagnostic and Therapeutic Methods”, to BioVex Limited, of the United Kingdom. The patent rights in these inventions have been assigned to the United States of America.

The prospective exclusive license territory will be worldwide and the field of use may be limited to herpesvirus vectors encoding MART-1 and/or gp100 for use as immunotherapeutic vaccines against melanoma in humans, and specifically excluding the use of MART-1 and/or gp100 in any other manner or form.

DATES: Only written comments and/or license applications which are received by the National Institutes of Health on or before October 12, 2001 will be considered.

ADDRESSES: Requests for copies of the patent/patent applications, inquiries, comments and other materials relating to the contemplated exclusive license should be directed to: Elaine White, M.B.A., Technology Licensing Specialist, Office of Technology Transfer, National Institutes of Health, 6011 Executive Boulevard, Suite 325, Rockville, MD. 20852-3804; Telephone: (301) 496-7056, x282; Facsimile (301) 402-0220; E-mail eg46t@nih.gov.

SUPPLEMENTARY INFORMATION: The prospective exclusive license will be royalty-bearing and will comply with the terms and conditions of 35 U.S.C. 209 and 37 CFR 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: August 3, 2001.
Jack Spiegel,
Director, Division of Technology Development and Transfer, Office of Technology Transfer.

[FR Doc. 01-20194 Filed 8-10-01; 8:45 am]

BILLING CODE 4140-01-P